FEDERAL MARITIME COMMISSION

Ocean Transportation Intermediary License; Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, D.C. 20573.

Non-Vessel Operating Common Carrier Ocean Transportation Intermediary Applicants

AAA Nordstar Line Inc., 1571 Irving Street, Rahway, NJ 07065, Officers: Anil V. Rane, President (Qualifying Individual), Maria E. Fabros, Vice President

Leeo Shipping, Inc., 17420 S. Avalon Blvd., Suite 207, Carson, CA 90720, Officer: Tae Ho Oh, President (Qualifying Individual)

Uniwell Shipping, Inc., 2029 E. Cashdan Street, Rancho Dominguez, CA 90220, Officer: Sang Min Kim, President (Qualifying Individual)

SESCO Group Inc., 4453 Durfee Avenue, El Monte, CA 91732, Officer: Xiaoying Dong, President (Qualifying Individual)

Cargo Network Express Inc., 2801 NW 74th Avenue, Suite 216, Miami, FL 33122, Officer: Alfredo W. Valle, President (Qualifying Individual)

Sunice Cargo Logistics, Inc., Cargo Bldg. #80, Suite 238, JFK Int'l. Airport, Jamaica, NY 11430, Officer: Derek Yu, Director, (Qualifying Individual)

All America Forwarding Inc., 440 S. Hindry Avenue, #H, Inglewood, CA 90301, Officer: Davis Hsin Ku, CEO (Qualifying Individual)

Everpole Shipping Incorporated, 19191 South Vermont Avenue, Suite 510, Torrance, CA 90502, Officers: Colin Tsai (Chang-Yeh, Tsai), Vice President, Thomas Chan, President

Non-Vessel Operating Common Carrier and Ocean Freight Forwarder Transportation Intermediary Applicants

Logistic Consultants Incorporated, 3730 S. Barrington Avenue, Los Angeles, CA 90066, Officers: Tarek Hassim, Executive Vice President (Qualifying Individual), Shaffe Khan, CEO

Somerset Marine Lines, L.L.C. d/b/a Somerset Marine or SML Forwarding Division, 4 Pond Court, Belle Mead, NJ 08502, Officers: Abed Medawar, Managing Partner (Qualifying Individual), John Merrihew, Managing Partner

Ocean Freight Forwarders—Ocean Transportation Intermediary Applicants

Servicios Hondurenos, 6601 Hillcroft, Suite 207, Houston, TX 77081, Francis A. Mendez, Sole Proprietor

Dated: August 4, 2000.
Bryant L. VanBrakle,
Secretary.

[FR Doc. 00-20147 Filed 8-8-00; 8:45 am]

BILLING CODE 6730-01-P